DEPARTMENT OF JUSTICE

Office of Justice Programs

[OJP(OJP)-1345]

Notice of Intent to Prepare an Environmental Impact Statement For The Expansion of a Juvenile Hall in Sacramento County, California

AGENCY: Office of Justice Programs, Justice.

ACTION: Notice of intent (NOI).

SUMMARY: Pursuant to the requirements of the National Environmental Policy Act (NEPA), codified at 42 U.S.C. 4321 et seq., the U.S. Department of Justice, Office of Justice Programs, Corrections Program Office (OJP/CPO) announces the Notice of Intent (NOI) for the preparation of an EIS for the Expansion of a Juvenile Hall in Sacramento County, California. The construction and operation of the Juvenile Hall is being proposed by Sacramento County, which is applying for OHP/CPO grants funds obtained by the California Board of Corrections (BOC) through the Violent Offender Incarceration/Truth-in-Sentencing (VOI/TIS) Incentive Grants Program. This project is subject to NEPA review because it may be funded in part with federal funding available under the VOI/TIS Grant Program.

DATES: During the preparation of the draft EIS there will be opportunities for public involvement in order to determine the issues to be examined. Two public scoping meetings will be held on July 9, 2002. The first meeting will be held from 2-4 p.m. in the 5th Floor Training Room at 800 H Street, Sacramento California. The second meeting will be held from 6-8 p.m. in the Assembly Room at 4100 Traffic Way, Sacramento, California.

The meetings will be held to solicit input on the scope of the EIS to be conducted, and to identify significant issues related to the proposed action. The purpose of the agency Scoping Meetings will be to gather comments from interested and affected agencies, and the public. Maps and information on the proposed action will be available at the meetings. The scoping meetings are being held for individuals to formally express their views on the proposed action and to identify those environmental issues or concerns with respect to implementation of the proposed action and its alternatives so that these issues can be analyzed in depth in the EIS. Community input will be solicited throughout this process, and community comments will be incorporated into the decision-making process.

FOR FURTHER INFORMATION CONTACT: Public notice will be given concerning the availability of the draft EIS for public review and comment. Questions concerning the proposed action and the draft EIS may be directed to: Jill Young, Environmental Coordinator, Corrections Program Office, Office of Justice Programs, U.S. Department of Justice, 810 7th Street, NW., Washington DC 20531, Telephone: 202.307-3914, Telefacimile 202.307-2019, or Michael A. Houghtby, Field Representative, State of California Board of Correction, Corrections Planning and Programs Division, 600 Bercut Drive, Sacramento, CA 95814, Telephone: 916.322-7085, Telefacimile: 916.445.5796, or Antonia Barry, Department of Environmental Review and Assessment, County of Sacramento, 827 7th Street, Sacramento, CA 95814, Telephone: 916.874-6990, Telefacimile: 916.874-8343.

SUPPLEMENTARY INFORMATION:

Proposed Action

Sacramento County is proposing to expand and operate its Juvenile Hall to better serve the community and the existing and future juvenile justice populations. The need for this action is based on the conditions of the existing juvenile justice facilities, additional space requirements needed to accommodate projected growth rates in the at risk youth population that will enter the juvenile justice system, and the County's desire to increase efficiency by expanding the existing facility rather than fragmenting the facilities to different locations. The Proposed Action would include the construction of two 30-bed housing units within the existing footprint, a 30-bed housing unit adjacent to the existing building, security modifications, a new visitor's center, a central plant expansion, classroom, dayroom and exam room additions, expansion of food service, laundry, staff dining and training rooms, expansion of the warehouse and a new space for the relocation of the intake/release function.

The project also allows for the future construction of 8 podular designed sleeping rooms, each consisting of 30 beds, for a total of 240 additional beds. These additional beds would be constructed sometime within the next 15 years, when funds become available and after the initial construction of the 90 beds described above.

Alternatives

The draft EIS will address the potential impacts of the ‘no action’ alternative, and one or more alternatives involving the construction of the proposed expansion at the existing site.

Tracy A. Henke for Deborah J. Daniels,
Assistant Attorney General.

[FR Doc. 02-15362 Filed 6-18-02; 8:45 am]

BILLING CODE 4410-18-P